DEPARTMENT OF THE INTERIOR

National Park Service

[NPS-WASO-NAGPRA-15173; PPWOCRADN0-PCU00RP14.R50000]

Notice of Inventory Completion: Texas A&M University, College Station, TX

AGENCY: National Park Service, Interior.

ACTION: Notice.

SUMMARY: Texas A&M University has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to Texas A&M University. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to Texas A&M University at the address in this notice by May 19, 2014.

ADDRESSES: Dr. Suzanne L. Eckert, Department of Anthropology, Texas A&M University, College Station, TX 77843-4352, telephone (979) 845-5242.

SUPPLEMENTARY INFORMATION: Notice is here given in accordance with the Native American Graves Protection and Repatriation Act (NAGPRA), 25 U.S.C. 3003, of the completion of an inventory of human remains under the control of Texas A&M University, College Station, TX. The human remains were removed from Granado Cave in Culberson County, TX.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by Texas A&M University (TAMU) professional staff in 1995, and the remains were determined to be ancestral to the Mescalero Apache. In 2010, representatives of the Mescalero Apache Tribe of the Mescalero Reservation, New Mexico, were invited to consult with TAMU for the purpose of determining the place and manner of the repatriation, but no representatives contacted TAMU or visited the remains in response to this invitation.

History and Description of the Remains

In 1978, human remains representing, at minimum, four individuals were removed from Granado Cave in Culberson County, TX. The human remains were determined to be one adult of indeterminate sex; two subadults; and one infant (TAMU-NAGPRA 55). No known individuals were identified. No associated funerary objects are present. Based on the geographic location and artifact assemblage recovered from this site, TAMU staff found it reasonable to trace a shared identity from this site to the Mescalero Apache Tribe of the Mescalero Reservation, New Mexico.

Determinations Made by Texas A&M University

Officials of Texas A&M University have determined that:

• Pursuant to 25 U.S.C. 3001(9), the human remains described in this notice represent the physical remains of four individuals of Native American ancestry.

• Pursuant to 25 U.S.C. 3001(2), there is a relationship of shared group identity that can be reasonably traced between the Native American human remains and the Mescalero Apache Tribe of the Mescalero Reservation, New Mexico.

Additional Requestors and Disposition

Lineal descendants or representatives of any Indian tribe or Native Hawaiian organization not identified in this notice that wish to request transfer of control of these human remains should submit a written request with information in support of the request to Dr. Suzanne L. Eckert, Department of Anthropology, Texas A&M University, College Station, TX 77843-4352, telephone (979) 845-5242, by May 19, 2014. After that date, if no additional requestors have come forward, transfer of control of the human remains to the Mescalero Apache Tribe of the Mescalero Reservation, New Mexico may proceed.

Texas A&M University is responsible for notifying the Mescalero Apache Tribe of the Mescalero Reservation, New Mexico that this notice has been published.

Dated: March 4, 2014.
Sherry Hutt,
Manager, National NAGPRA Program.

[FR Doc. 2014-08804 Filed 4-16-14; 8:45 am]

BILLING CODE 4312-50-P